DEPARTMENT OF COMMERCE

National Oceanic and Atmospheric Administration

RIN 0648-XD763

South Atlantic Fishery Management Council (SAFMC); Public Meetings

AGENCY: National Marine Fisheries Service (NMFS), National Oceanic and Atmospheric Administration (NOAA), Commerce.

ACTION: Notice of public meetings.

SUMMARY: The South Atlantic Fishery Management Council (Council) will hold meetings of the: Joint Habitat and Environmental Protection Committee and the Ecosystem-Based Management Committee; the Law Enforcement Advisory Panel; Southeast Data, Assessment and Review (SEDAR) Committee (partially Closed); Scientific and Statistical Committee (SSC) Selection Committee; Protected Resources Committee; Spiny Lobster Committee, Snapper Grouper Committee; King and Spanish Mackerel Committee; Executive Finance Committee; Golden Crab Committee; Data Collection Committee; and a meeting of the Full Council. The Council will also hold a Council Member Visioning Workshop for the Snapper Grouper Fishery. The Council will take action as necessary. The Council will also hold an informal public question and answer session regarding agenda items and a formal public comment session.

DATES: The Council meeting will be held from 9 a.m. on Monday, March 2, 2015 until 1:30 p.m. on Friday, March 6, 2015.

ADDRESSES:

Meeting address: The meeting will be held at the King and Prince Hotel, 201 Arnold Road, St. Simons Island, GA 31522; telephone: (800) 342-0212 or (912) 638-3631; fax: (912) 638-7699.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Council Member Visioning Workshop, Monday, March 2, 2015, 9 a.m. Until 12 noon

1. Council members will receive a recap of the December 2014 Visioning Workshop, review the draft snapper grouper goals and objectives, receive a summary of statistics for the snapper grouper fishery, and discuss planning and timelines for collecting public input on the Draft Vision Blueprint.

2. Council members will discuss next steps and provide guidance to staff.

Joint Habitat and Environmental Protection Committee and Ecosystem-Based Management Committee, Monday, March 2, 2015, 1:30 p.m. Until 5:30 p.m.

1. The committees will receive an update on the status of Coral Amendment 8, an overview of the updated Beach Renourishment Policy Statement and hold a South Atlantic Ecosystem Session.

2. The committees will develop recommendations and provide guidance to staff.

Law Enforcement Advisory Panel Meeting (Concurrent Session), Monday, March 2, 2015, 1:30 p.m. Until 5:30 p.m.

1. The advisory panel (AP) will receive updates on recently completed and developing amendments to fishery management plans, receive a presentation on the status of Joint Enforcement Agreements, and overviews of the following amendments under development by the Council: Snapper Grouper Amendment 35 (removing species from the fishery management unit and measures to address endorsements for the commercial golden tilefish fishery); Snapper Grouper Amendment 36 (Spawning Special Management Zones); and Regulatory Amendment 16 (modifications to the black sea bass pot fishery seasonal closure). The AP will also discuss remote sensing as a tool to monitor marine protected area compliance.

2. The AP will develop recommendations for the Council.

SEDAR Committee, Tuesday, March 3, 2015, 8:30 a.m. Until 9 a.m. (Partially Closed)

1. The committee will develop SEDAR appointment recommendations for the SEDAR 41 stock assessment (red snapper and gray triggerfish) Data Best Practices Procedure Workshop.

2. The committee will receive an update on SEDAR Activities and updates from NOAA Fisheries Southeast Fisheries Science Center (SEFSC).

Scientific and Statistical Committee (SSC) Selection Committee, Tuesday, March 3, 2015, 9 a.m. Until 9:30 a.m.

1. The committee will review SSC policies and develop recommendations for modifications.

Protected Resources Committee, Tuesday, March 3, 2015, 9:30 a.m. Until 10:30 a.m.

1. The committee will receive a report on ongoing formal consultations and other Protected Resources updates, a presentation the Coastal Migratory Pelagics Biological Opinion, an overview of Advanced Notice of Rulemaking and Request of Information for Coral, and an overview of the Endangered Species Act/Magnuson-Stevens Act Integration Agreement. The Council will discuss and take action as necessary.

2. The committee will also receive an overview on Proposed Modifications to Right Whale Critical Habitat from NOAA Fisheries Southeast Regional Office (SERO) Protected Resources staff, discuss and take action as necessary.

Spiny Lobster Committee, Tuesday, March 3, 2015, 10:30 a.m. Until 12 noon

1. The committee will receive an update on the status of commercial and recreational catches versus annual catch limits and a report on the Spiny Lobster Review Panel recommendations

2. The committee will discuss the report, take action as necessary and provide direction to staff.

Snapper Grouper Committee, Tuesday, March 3, 2015, 1:30 p.m. Until 5 p.m. and Wednesday, March 4, 2015 From 8:30 a.m. Until 5:30 p.m.

1. The committee will receive updates from NOAA Fisheries on the status of catches versus annual catch limits and the status of amendments currently under formal Secretarial review.

2. The committee will receive an overview of Snapper Grouper Amendment 37 (Short-term measures relative to the Visioning Project, measures for hogfish, the jacks management complex, almaco jack trip limits, size limits on deepwater species, and measures for red grouper). The committee will develop recommendations for items to include in the amendment and timing for development.

3. The committee will review Snapper Grouper Amendment 22 with management alternatives for developing a harvest tag program and provide guidance to staff.

4. The committee will receive a report from the Atlantic Large Whale Take Reduction Team meeting, discuss the report and provide guidance to staff.

5. The committee will review Snapper Grouper Regulatory Amendment 16 (Black sea bass pot closure), develop recommendations for modifying the document and select preferred management alternatives for the amendment.

6. The committee will receive an overview of Snapper Grouper Amendment 36 (Spawning Special Management Zones), review the decision document and develop recommendations as appropriate. The committee is scheduled to recommend approving the amendment for public hearings.

7. The committee will receive an overview of the draft System Management Plan for Deepwater Marine Protected Areas and provide guidance to staff.

8. The committee will receive an overview of Snapper Grouper Amendment 35 (removing species from the management unit, golden tilefish endorsements), review public hearing comments, approve actions, and provide recommendations.

9. The committee will address issues relative to increased blueline tilefish landings north of North Carolina. The committee will receive a briefing on legal issues and an overview of a decision document to address management issues. The committee will consider recommending an emergency rule or interim action as appropriate to address the increased landings, and provide guidance to staff on next steps and timing.

Note: There will be an informal public question and answer session with the NOAA Fisheries Southeast Regional Administrator and the Council Chairman on Wednesday, March 4, 2015, beginning at 5:30 p.m.

King and Spanish Mackerel Committee, Thursday, March 5, 2015, 8:30 a.m. Until 12 noon

1. The committee will receive an update on the status of commercial and recreational catches versus ACLs and an update on the status of amendments under Formal Review.

2. The committee will receive a report from the Gulf of Mexico Fishery Management Council meeting and actions taken.

3. The committee will review public scoping comments.

4. The committee will review the decision document for Coastal Migratory Pelagics (CMP) Amendment 26 addressing king mackerel ACLs, allocations, stock boundary options, and sales provisions, and provide direction to staff.

5. The committee will receive an overview of options for separate South Atlantic and Gulf Fishery Management Plans for mackerel from NOAA General Counsel and Council staff, discuss, take action as necessary and provide direction to staff.

Executive Finance Committee, Thursday, March 5, 2015, 1:30 p.m. Until 2:30 p.m.

1. The committee will receive updates on the status of the Calendar-Year 2015 budget and budget expenditures.

2. Address the Council Follow-up and priorities.

3. Receive an update on the Joint South Florida Committee issues, a report from the Council Coordinating Committee meeting, an update on staff health insurance, and address other issues as appropriate.

Golden Crab Committee, Thursday, March 5, 2015, 2:30 p.m. Until 3:30 p.m.

The committee will receive a report on the status of catch versus ACLs for golden crab, an update on the status of Amendment 9 to the Golden Crab Fishery Management Plan (accountability measures), and a report from the Golden Crab AP meeting. The committee will provide recommendations as appropriate.

Data Collection Committee, Thursday, March 5, 2015, 3:30 p.m. Until 5 p.m.

1. The committee will receive an update on the status of work on Bycatch Reporting in the Southeast, a presentation on the Electronic Technology Implementation Plan (Data Collection and Monitoring), and an overview and status update on the Implementation Plan for Commercial Logbook Electronic Reporting. The committee will discuss and provide guidance to staff.

2. The committee will also receive a presentation on the status of the commercial electronic logbook pilot project by NOAA Fisheries SEFSC, and an overview of the Gulf Council's action, status and next steps for the Joint South Atlantic and Gulf Council Generic Charterboat Reporting Amendment. The Committee will review the decision document for the amendment and provide guidance to staff.

Note: A formal public comment session will be held on Thursday, March 5, 2015 beginning at 5:30 p.m. Public comment will be accepted on any items on the Council agenda. The amount of time provided to individuals will be determined by the Chairman based on the number of individuals wishing to comment.

Council Session: Friday, March 6, 2015, 8:30 a.m. Until 1:30 p.m.

8:30 a.m.-8:45 a.m.: Call the meeting to order, adopt the agenda, and approve the December 2014 minutes.

8:45 a.m.-9 a.m.: The Council will receive a report from the Snapper Grouper Committee and is scheduled to approve Snapper Grouper Amendment 36 for public hearings. The Council will consider other committee recommendations and take action as appropriate.

9 a.m.-9:15 a.m.: The Council will receive a report from the King and Spanish Mackerel Committee, consider committee recommendations and take action as appropriate.

9:15 a.m.-9:30 a.m.: The Council will receive a report from the SSC Committee, consider committee recommendations and take action as appropriate.

9:30 a.m.-9:45 a.m.: The Council will receive a report from the Council Member Visioning Workshop, consider recommendations and take action as appropriate.

9:45 a.m.-10 a.m.: The Council will receive a report from the Joint Habitat and Environmental Protection Committee and Ecosystem-Based Management Committee, consider committee recommendations and take action as appropriate.

10 a.m.-10:15 a.m.: The Council will receive a report from the Protected Resources Committee, consider committee recommendations and take action as appropriate.

10:15 a.m.-10:30 a.m.: The Council will receive a report from the SEDAR Committee, consider committee recommendations and will take action as appropriate.

10:30 a.m.-10:45 a.m.: The Council will receive a report from the Executive Finance Committee, approve the Council Follow Up and Priorities, take action on the South Florida Management issues as appropriate, and consider committee recommendations and take action as appropriate.

10:45-11 a.m.: The Council will receive a report from the Golden Crab Committee, consider committee recommendations and take action as appropriate.

11 a.m.-11:15 a.m.: The Council will receive a report from the Data Collection Committee, consider recommendations and take action as appropriate.

11:15 a.m.-11:30 a.m.: The Council will receive a report from the Spiny Lobster Committee, consider committee recommendations and take action as appropriate.

11:30 a.m.-12 noon: The Council will receive a presentation on Amendment 6 to the 2006 Consolidated Highly Migratory Species Fishery Management Plan from NOAA Fisheries.

12 noon-12:15 p.m.: The Council will receive an update on the Marine Resources Education Program—Southeast.

12:15 p.m.-1:30 p.m.: The Council will receive status reports from NOAA Fisheries SERO and the SEFSC. The Council will review and develop recommendations on Experimental Fishing Permits as necessary; review agency and liaison reports; and discuss other business and upcoming meetings.

Documents regarding these issues are available from the Council office (see ADDRESSES).

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: February 10, 2015.
Tracey L. Thompson,
Acting Deputy Director, Office of Sustainable Fisheries, National Marine Fisheries Service.

[FR Doc. 2015-03071 Filed 2-12-15; 8:45 am]

BILLING CODE 3510-22-P